SMALL BUSINESS ADMINISTRATION

Public Federal Regulatory Enforcement Fairness Hearing; Region VII Regulatory Fairness Board

The Small Business Administration Region VII Regulatory Fairness Board and the SBA Office of the National Ombudsman will hold a public hearing on Monday, June 16, 2003, at 1 p.m. at the University of Iowa Town Center, 221 3rd Avenue, SE., Suite 200, Cedar Rapids, IA 52401 with interactive videos—satellite locations at: Davenport, West Burlington, Dubuque, Des Moines, Sioux City, Spencer, Fort Dodge, Mason City, Council Bluffs, Ottumwa, and Creston, to receive comments and testimony from small business owners, small government entities, and small non-profit organizations concerning regulatory enforcement and compliance actions taken by Federal agencies.

Anyone wishing to attend or to make a presentation must contact Keith W. McBride in writing or by fax, in order to be put on the agenda. Keith McBride, U.S. Small Business Administration, Cedar Rapids District Office, 215 4th Avenue S.E., the Lattner Building, Suite 200, Cedar Rapids, IA 52401, phone (319) 362-6405 Ext. 221, fax (319) 362-6405, e-mail keith.mcbride@sba.gov.

For more information, see our Web site at http://www.sba.gov/ombudsman.

Dated: May 27, 2003.
Michael L. Barrera,
National Ombudsman.

[FR Doc. 03-13874 Filed 6-2-03; 8:45 am]

BILLING CODE 8025-01-P